DEPARTMENT OF JUSTICE

Antitrust Division

Notice Pursuant to the National Cooperative Research and Production Act of 1993—Institute of Inspection Cleaning and Restoration Certification

Notice is hereby given that, on September 15, 2004, pursuant to section 6(a) of the National Cooperative Research and Production Act of 1993, 15 U.S.C. 4301 et seq. (“the Act”), Institute of Inspection Cleaning and Restoration Certification (“IICRC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Institute of Inspection Cleaning and Restoration Certification, Vancouver, WA. The nature and scope of IICRC's standards development activities are: IICRC is engaged in a segment of the cleaning, restoration and inspection industry, primarily involving floor coverings, upholstery, personal property, water and fire damage restoration of structures and contents, and mold remediation of structures and contents.

Dorothy B. Fountain,
Deputy Director of Operations, Antitrust Division.

[FR Doc. 05-141 Filed 1-4-05; 8:45 am]

BILLING CODE 4410-11-M